SMALL BUSINESS ADMINISTRATION

[Disaster Declaration # 11469 and # 11470]

Illinois Disaster Number IL-00019

AGENCY: U.S. Small Business Administration.

ACTION: Amendment 3.

SUMMARY: This is an amendment of the Presidential declaration of a major disaster for the State of Illinois (FEMA-1800-DR), dated 10/03/2008.

Incident: Severe Storms and Flooding.

Incident Period: 09/13/2008 through 10/05/2008.

DATES: Effective Date: 11/13/2008.

Physical Loan Application Deadline Date: 12/02/2008.

EIDL Loan Application Deadline Date: 07/03/2009.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Illinois, dated 10/03/2008 is hereby amended to include the following areas as adversely affected by the disaster:

Primary Counties: (Physical Damage and Economic Injury Loans): Peoria.

Contiguous Counties: (Economic Injury Loans Only): Illinois: Fulton, Knox, Stark.

All other information in the original declaration remains unchanged.

(Catalog of Federal Domestic Assistance Numbers 59002 and 59008)

James E. Rivera,
Acting Associate Administrator for Disaster Assistance.

[FR Doc. E8-27695 Filed 11-20-08; 8:45 am]

BILLING CODE 8025-01-P